DEPARTMENT OF DEFENSE

Department of the Army, Corps of Engineers

Intent To Prepare an Integrated Draft Feasibility Report and Environmental Impact Statement for Proposed Reallocation of Flood Storage to Water Supply at Wright Patman Lake on the Sulphur River in Cass and Bowie, Counties in Northeast Texas

AGENCY: Department of the Army, U.S. Army Corps of Engineers, DoD.

ACTION: Notice of Intent.

SUMMARY: The study is being conducted under the authority contained in the 1958 Water Supply Act (Pub. L. 85-500), Section 301, as amended in 43 United States Code (U.S.C.) 390b and by the River and Harbor Flood Control Act of 1970 (Pub. L. 91-611), as amended, under Section 216 and under guidance provided in ER 1105-2-100. The U.S. Army Corps of Engineers (USACE) will prepare an integrated Draft Feasibility Report and Draft Environmental Impact Statement (EIS) that describes the results of investigations and analyses used to make determinations as to whether and/or what amount of flood storage might be reallocated to water supply to meet the needs of Region C and Region D. The Sulphur River Basin Authority (SRBA) is the non-federal sponsor to study the feasibility of reallocation (converting flood storage to water supply or raising the pool level) while protecting the City of Texarkana's water rights of 180,000 acre-feet (AF) per year. SRBA's sponsorship is for the study only. If reallocation is determined feasible and is pursued, the USACE will require a non-federal sponsor or sponsors for reallocation.

FOR FURTHER INFORMATION CONTACT: For questions regarding the Wright Patman Lake Reallocation Project Draft Feasibility Report, please contact Mr. Jodie Foster, Planning Lead, U.S. Army Corps of Engineers, Regional Planning & Environmental Center, Plan Formulation Section, 819 Taylor Street, Fort Worth, TX 76102, (817) 886-1679, or via email at jodie.foster@usace.army.mil.

For questions regarding the Wright Patman Lake Reallocation Project Draft EIS, please contact Ms. Melinda Fisher, Environmental Lead, U.S. Army Corps of Engineers, Regional Planning & Environmental Center, NEPA & Cultural Resources Section, 1645 S. 101st E. Avenue, Tulsa, OK 74128, (918) 669-7502, or via email at melinda.fisher@usace.army.mil.

SUPPLEMENTARY INFORMATION:

1. Background. Wright Patman Lake is a USACE operated reservoir that encompasses approximately 30,000 surface acres of water and has the primary purposes of flood control and water conservation for the communities downstream of the dam. Wright Patman Lake is also a major water supply source for the cities of Texarkana (Texas and Arkansas) and the surrounding area. The City of Texarkana is the non-Federal sponsor for the existing water supply storage in Wright Patman Lake and holds a State of Texas water right for 180,000 acre-feet (AF) per year of raw water for diversion to municipal and industrial users. International Paper (IP), the largest single water user in the Sulphur River Basin and one of the region's major employers, has a long term contract with TWU for the provision of 118,000 AF of water for its industrial operations.

Operational changes would be required with a reallocation of flood control storage to water supply and would produce effects on upstream and downstream flood patterns, recreational opportunities, water quality, and fish and wildlife habitat. In determining whether to reallocate storage within the reservoir and change operational regimes, the USACE must comply with requirements including but not limited to the Endangered Species Act, the National Environmental Policy Act (NEPA), the National Historic Preservation Act, and the Clean Water Act.

2. Proposed Action. The USACE is studying the feasibility of reallocating some flood control storage capacity in Wright Patman Lake for the purpose of water supply. The reallocation is needed to enable the SRBA to provide water to local and regional users for municipal and industrial uses in response to population growth in Region C which includes all or portions of 16 North Central Texas counties and the Dallas-Fort Worth metropolitan area.

3. Alternatives Considered. The USACE, working with the SRBA, has identified and conducted preliminary analysis on potential pool increases at Wright Patman Lake for further consideration during the study. These alternatives would consider alternative pool raises above the maximum monthly conservation elevation of Wright Patman Lake operating under the ultimate rule curve. These elevations considered in the preliminary study would be anticipated to have different levels of impacts on upstream and downstream flood patterns, recreational opportunities, water quality, vegetation and fish and wildlife habitat. The USACE's no action alternative would also be considered. Additional alternatives, which could include different storage volumes and varying operational regimes, could also be developed during the scoping and evaluation process.

4. Scoping/Public Involvement. The USACE invites all affected Federal, State, and local agencies, affected Native American tribes, and other interested parties to participate in the NEPA process during development of the Draft Feasibility Report/Draft EIS. The public scoping process will provide information about the reallocation study to the public, serve as a mechanism to solicit agency and public input on alternatives and issues of concern, and ensure full and open participation in scoping and review of the Draft EIS. A public scoping meeting is being planned and will be scheduled in the January-March 2016 timeframe. The specific date and location of the meeting will be announced in news releases issued through the local news media, as well as on the USACE Fort Worth District's Web site under public notices (http://www.swf.usace.army.mil/). The meeting will be conducted in an informal setting designed to present information about the reallocation study and to answer questions and accept comments from the public. The USACE invites other Federal agencies, Native American Tribes, State and local agencies and officials, private organizations, and interested individuals to attend the scoping meeting and provide comments. Once completed, the Draft Feasibility Report/Draft EIS will be circulated for public review and comment. The USACE will issue a Notice of Availability in the Federal Register announcing the release of the Draft EIS for public comment as well as the date and time of a subsequent public review meeting regarding the Draft EIS through the local news media. Information on the Notice of Intent, Draft Feasibility Report/Draft EIS, public meeting dates and other important information related to the study will be available for review at USACE Web sites.

Eric W. Verwers,
Director, Regional Planning and Environmental Center.

[FR Doc. 2016-00023 Filed 1-6-16; 8:45 am]

BILLING CODE 3720-58-P